DEPARTMENT OF TRANSPORTATION

Federal Highway Administration

Supplemental Draft Environmental Impact Statement; U.S. 231 Dubois County, IN

AGENCY: Federal Highway Administration (FHWA), DOT.

ACTION: Notice of intent.

SUMMARY: The Federal Highway Administration (FHWA), in cooperation with the Indiana Department (INDOT), is issuing this notice to advise the public that FHWA will prepare a Supplemental Draft Environmental Impact Statement (SDEIS) for the U.S. 231 Jasper Huntingburg project in Dubois County, Indiana.

Since publication of the 2004 U.S. 231 Draft EIS in March 2004, FHWA and INDOT has continued to evaluate the project and has developed additional alternatives for consideration. The SDEIS will re-evaluate the Preferred Alternative identified in the 2004 U.S. 231 DEIS and compare those impacts to the additional build alternatives. The SDEIS will focus on the project modifications, the existing environment and impacts, and any new information that has developed since the 2004 DEIS as required by 23 CFR 771.130.

DATES: Comments on the scope of the SDEIS for the proposed project should be forwarded no later than July 2, 2010.

ADDRESSES: Address all comments concerning this notice to Tim Miller, Environmental Manager, HNTB Indiana, Inc., 111 Monument Circle, Suite 1200, Indianapolis, IN 46204, Telephone: (317) 636-4682, E-mail: tnmiller@hntb.com.

FOR FURTHER INFORMATION CONTACT: Janice Osadczuk, Planning/Environmental Specialist, Federal Highway Administration, Indiana Division, 575 North Pennsylvania Street, Room 254, Indianapolis, Indiana, Telephone: (317) 226-7486.

Supplementary Background Information: U.S. 231 extends approximately 304 mi from U.S. 60 in Owensboro, Kentucky, north through Indiana to U.S. 41 near the Illinois border. Due to the importance of the route, U.S. 231 is included in the National Highway System (NHS). The NHS includes all Interstate routes, a large percentage of roads classified as principal arterial highways and roads important for national defense. The NHS includes 5 percent of the national roadway network but serves approximately 40 percent of the nation's highway travel. U.S. 231 is also a part of the National Truck Network, a national network of highways that allows the passage of trucks of specified minimum dimensions and weight.

Designated as a Regional Mobility Corridor and Commerce Corridor, U.S. 231 serves as a connection to smaller cities and regions, feeds traffic to the major mobility corridors and provides for regional accessibility. As a Commerce Corridor, U.S. 231 directly facilitates intrastate, interstate or international commerce or travel. Approximately 12 mi of existing U.S. 231 through Dubois County is rural 2-lane roadway. The roadway becomes 3- or 4-lane through Huntingburg and Jasper and is a north-south arterial that divides both communities. Traffic flow in Huntingburg is affected by delays at an at-grade railroad crossing. In Jasper, U.S. 231 makes two right-angle turns, both of which have substandard corner radii and are difficult for larger vehicles to negotiate.

In March 2004, FHWA released the U.S. 231 Draft EIS. FHWA and INDOT have continued to evaluate the project and have developed additional alternatives for consideration and a Final EIS has not been released within three years of the publication of the Draft EIS. The SDEIS will re-evaluate the Preferred Alternative identified in the 2004 U.S. 231 DEIS and compare those impacts to the additional build alternatives. The SDEIS will focus on the project modifications, the existing environment and impacts, and any new information that has developed since the 2004 DEIS as required by 23 CFR 771.130.

Environmental Issues: Possible environmental impacts include viewshed impacts, impacts to water resources, wetlands, farmed wetlands, prime farmland, sensitive biological species and habitat, land use compatibility impacts, impacts to agricultural lands, displacement of commercial and residential properties, and potential effects to historical properties or archaeological sites.

Alternatives: The SDEIS will consider alternatives that include: (1) Taking no action; (2) re-evaluation of the Preferred Alternative identified in the 2004 DEIS; and (3) additional build alternatives not previously identified in the 2004 DEIS.

Public and Agency Scoping and Comment: FHWA encourages continued broad participation in the SDEIS process and review of the resulting environmental documents. A resource/regulatory agency meeting is scheduled for May 17, 2010 to re-initiate agency participation again as FHWA continues with the development of the SDEIS, Final EIS, and Record of Decision. This agency meeting will be held to solicit input from the resource and regulatory agencies on the nature and extent of issues, concerns and potential impacts to be addressed in the SDEIS, including methods by which they will be evaluated and discuss any changes since the release of the 2004 DEIS. A public information meeting will be conducted in the City of Huntingburg in the summer of 2010, re-initiating the public scoping process on the SDEIS, which will be widely publicized well in advance of the meeting. Comments, questions, and suggestions related to the project and potential environmental concerns are invited from all interested agencies and the public at large to ensure that the full range of issues related to the proposed action and all reasonable alternatives are considered and all significant issues are identified. These comments, questions, and suggestions should be forwarded to the address listed above. Notices of availability for the Supplemental Draft EIS, Final EIS, and Record of Decision will be provided through direct mail, the Federal Register and other media. Notification also will be sent to Federal, State, local agencies, persons, and organizations that submit comments or questions. Precise schedules and locations for public meetings will be announced in the local news media. Interested individuals and organizations may request to be included on the mailing list for the distribution of meeting announcements and associated information.

(Catalog of Federal Domestic Assistance Program No. 20.205, Highway Planning and Construction. The regulations implementing Executive Order 12372 regarding intergovernmental consultation on Federal programs and activities apply to the program.)

Authority: 23 U.S.C. 31.5; 23 CFR 771.123; 49 CFR 1.48.

Robert F. Tally,
Division Administrator, Indianapolis, Indiana.

[FR Doc. 2010-13103 Filed 6-1-10; 8:45 am]

BILLING CODE 4910-22-M